DEPARTMENT OF THE TREASURY

Alcohol and Tobacco Tax and Trade Bureau

27 CFR Parts 5

[Docket No. TTB-2010-0008; Notice No. 111]

RIN 1513-AB79

Disclosure of Cochineal Extract and Carmine in the Labeling of Wines, Distilled Spirits, and Malt Beverages

Correction

In proposed rule document 2010-27733 beginning on page 67669 in the issue of Wednesday, November 3, 2010, make the following correction:

§ 5.32 [Corrected]

On page 67672, in the third column, in § 5.32(b)(6), in the eighth line, “February 1, 2011” should read [DATE 90 DAYS AFTER DATE FINAL RULE IS PUBLISHED IN THE FEDERAL REGISTER].

[FR Doc. C1-2010-27733 Filed 1-19-11; 8:45 am]

BILLING CODE 1505-01-D